AGENCY FOR INTERNATIONAL DEVELOPMENT

Agency Information Collection Activities; Request for Comments; Announcement of Customer Service Survey

AGENCY: U.S. Agency for International Development (USAID).

ACTION: Notice of information collection; request for comment.

SUMMARY: USAID's Performance Improvement Officer (PIO) will administer an annual, internal Customer Service Survey (CSS) and use staff feedback to improve customer service operations. USAID leadership uses CSS results to demonstrate their commitment to listening to customers, making data-informed decisions, and addressing customers' issues.

DATES: USAID intends to issue the survey in late winter/early spring 2023. Comments are due November 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Maggie Strong, mastrong@usaid.gov, 202-921-5104.

SUPPLEMENTARY INFORMATION: USAID, in accordance with the Paperwork Reduction Act of 1995 (PRA) (44 U.S.C. 3506(c)(2)(A)), provides the general public and Federal agencies with an opportunity to comment on the proposed survey.

Title of Collection: USAID Internal Customer Service Survey (CSS).

OMB Control Number: 1840-NEW.

Type of Review: A new information collection.

Respondents/Affected Public: USAID institutional support contractors, personal support contractors.

Total Estimated Number of Annual Responses: 1922.

Total Estimated Number of Annual Burden Hours: 256.2.

Abstract: The Customer Service Survey will be administered to USAID staff, including contractors. USAID staff of all hiring mechanisms have the opportunity to take the survey; participation is not mandatory. USAID uses data for internal decision-making and data will not be made public.

Margaret Emery Strong,
Senior Analyst, USAID.

[FR Doc. 2022-23232 Filed 10-25-22; 8:45 am]

BILLING CODE 6116-01-P